DEPARTMENT OF TRANSPORTATION

Federal Aviation Administration

Aviation Rulemaking Advisory Committee; Transport Airplane and Engine Issues—New Task

AGENCY: Federal Aviation Administration (FAA), DOT.

ACTION: Notice of new task assignment for the Aviation Rulemaking Advisory Committee (ARAC).

SUMMARY: The FAA assigned the Aviation Rulemaking Advisory Committee a new task to develop recommendations to ensure airplane ventilation systems and cabin environment will provide a suitable environment for crew and passengers following a pressurization system failure resulting in an airplane decompression. This notice is to inform the public of this ARAC activity.

FOR FURTHER INFORMATION CONTACT: Charles Huber, Federal Aviation Administration, Northwest Mountain Region Headquarters, 1601 Lind Avenue, SW. Renton, Washington, (425) 227-2589), charles.huber@faa.gov.

SUPPLEMENTARY INFORMATION:

Background

The FAA established the Aviation Rulemaking Advisory Committee to provide advice and recommendations to the FAA Administrator on the FAA's rulemaking activities with respect to aviation-related issues. This includes obtaining advice and recommendations on the FAA's commitments to harmonize Title 14 of the Code of Federal Regulations (14 CFR) with its partners in Europe and Canada.

The Task

Part 1: Ventilation—Heating and Humidity (§ 25.831(g))

• Review the current airworthiness standards for transport category airplanes regarding airplane cabin and flight deck environment.

• Determine if revisions are needed to ensure the ventilation system, following system failures, will provide a suitable environment for crew and passengers. The assessment should consider:

1. The types of airplane system failure conditions that should be addressed.

2. Setting the appropriate limiting values of cabin and flight-deck temperature, humidity levels, and exposure times to eliminate any unacceptable impact on flight crews and cabin crew performance, disabling any passengers, or creating long-term health problems to passengers or crews.

3. Any relevant National Aeronautics and Space Administration (NASA), United States (US) Armed Forces, National Institute of Occupational Safety and Health (NIOSH), Occupational Safety and Health Administration (OSHA), Federal Aviation Administration (FAA), academia and industry standards for pressure, temperature and humidity.

• Develop a report based on the review, and recommend any revisions to the rules (including cost estimates) and advisory materials needed to address the above issues.

• If as a result of the recommendations in this report, the FAA publishes a notice of proposed rulemaking and/or notice of availability of proposed advisory circular for public comment, ARAC may be further tasked to review all comments received and provide the FAA with a recommendation for disposition of those comments.

Schedule: This report is to be submitted no later than 24 months after the task is published by the FAA in the Federal Register.

Part 2: Cabin Pressurization (§ 25.841(a))

• Review and current airworthiness standards for transport category airplanes regarding airplane cabin altitudes resulting from cabin decompression.

• Determine if revisions are needed to ensure that during certain failure conditions the cabin environment is suitable for crew and passengers. The assessment should consider:

1. The types of airplane system, structure, and/or propulsion failure conditions that should be addressed.

2. The factors that impact the level of severity of the threat, airplane design features, and operation procedures that could be used to moderate the severity of the threat.

3. The recommendation of appropriation cabin pressure standards that would govern cabin air quality following certain failure conditions. These standard should ensure that exposure time to a reduced pressure and the lack of oxygen in the airplane does not reach a level that would:

a. Negatively impact the flight-deck crew's performance to the extent that the flight crew could not safely control the airplane during an emergency descent,

b. Disable any cabin crew member or passenger to the degree that resuscitation techniques would be needed to revive, or

c. Create long term health problems for the crew or passengers.

4. A definition of terms (e.g., “appreciable rise in the pressure differential”, “reasonably precludes”, “rapidly equalized”, “any delay that would significantly increase the hazards”, etc.) and appropriate pressurization system requirements and practices during all phases of operation.

5. Any relevant NASA, US Armed Forces, NIOSH, OSHA, FAA, academia and industry standards.

• Develop a report based on the review, and recommend any revisions to the rules (including cost estimates) and advisory materials needed to address the above issues.

• If as a result of the recommendations the FAA publishes a notice of proposed rulemaking and/or notice of availability of proposed advisory circular, ARAC may be further tasked to review all comments received and provide the FAA with a recommendation for disposition of those comments.

Schedule: This report is to be submitted no later than 24 months after the task is published by the FAA in the Federal Register.

ARAC Acceptance of Task

ARAC accepted the task and assigned the task to the Mechanical Systems Harmonization Working Group, Transport Airplane and Engine Issues. The working group serves as staff to ARAC and assists in the analysis of assigned task. ARAC must review and approve the working group's recommendations. If ARAC accepts the working group's recommendations, it will forward them to the FAA.

Working Group Activity

The Mechanical Systems Harmonization Working Group is expected to comply with the procedures adopted by ARAC. As part of the procedures, the working group is expected to:

1. Recommend a work plan for completion of the task, including the rationale supporting such a plan for consideration at the next meeting of the ARAC on Transport Airplane and Engine Issues held following publication of this notice.

2. Give a detailed conceptual presentation of the proposed recommendations prior to proceeding with the work stated in items 3 below.

3. Draft the appropriate documents and required analyses and/or any other related materials or documents.

4. Provide a status report at each meeting of the ARAC held to consider Transport Airplane and Engine Issues.

Participation in the Working Group

The Mechanical Systems Harmonization Working Group is composed of technical experts having an interest in the assigned task. A working group member need not be a representative or a member of the full committee.

An individual who has expertise in the subject matter and wishes to become a member of the working group should write to the person listed under the caption FOR FURTHER INFORMATION CONTACT expressing that desire, describing his or her interest in the task, and stating the expertise he or she would bring to the working group. All requests to participate must be received no later than August 24, 2001. The requests will be reviewed by the assistant chair, the assistant executive director, and the working group co-chairs. Individuals will be advised whether or not their request can be accommodated.

Individuals chosen for membership on the working group will be expected to represent their aviation community segment and actively participate in the working group (e.g., attend all meetings, provide written comments when requests to do so, etc.). They also will be expected to devote the resources necessary to support the working group in meeting any assigned deadlines. Members are expected to keep their management chain and those they may represent advised of working group activities and decisions to ensure that the proposed technical solutions do not conflict with their sponsoring organization's position when the subject being negotiated is presented to ARAC for approval.

Once the working group has begun deliberations, members will not be added or substituted without the approval of the assistant chair, the assistant executive director, and the working group co-chairs.

The Secretary of Transportation determined that the formation and use of the ARAC is necessary and in the public interest in connection with the performance of duties imposed on the FAA by law.

Meetings of the ARAC will be open to the public. Meetings of the Mechanical Systems Harmonization Working Group will not be open to the public, except to the extent that individuals with an interest and expertise are selected to participate. The FAA will make no public announcement of working group meetings.

Issued in Washington, DC, on July 23, 2001.
Anthony F. Fazio,
Executive Director, Aviation Rulemaking Advisory Committee.

[FR Doc. 01-18674 Filed 7-25-01; 8:45 am]

BILLING CODE 4910-13-M